DEPARTMENT OF THE INTERIOR

Fish and Wildlife Service

[FWS-HQ-MB-2021-N030; FF09M28100, FXMB1231092MFR0, 212; OMB Control Number 1018-New]

Agency Information Collection Activities; Submission to the Office of Management and Budget for Review and Approval; Online Eastern Population Sandhill Crane Survey Data Entry Portal

AGENCY: Fish and Wildlife Service, Interior.

ACTION: Notice of information collection; request for comment.

SUMMARY: In accordance with the Paperwork Reduction Act of 1995, we, the U.S. Fish and Wildlife Service (Service), are proposing a new information collection.

DATES: Interested persons are invited to submit comments on or before July 12, 2021.

ADDRESSES: Written comments and recommendations for the proposed information collection should be sent within 30 days of publication of this notice to www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018—Sandhill Cranes” in the subject line of your comments.

FOR FURTHER INFORMATION CONTACT: Madonna L. Baucum, Service Information Collection Clearance Officer, by email at Info_Coll@fws.gov, or by telephone at (703) 358-2503. Individuals who are hearing or speech impaired may call the Federal Relay Service at 1-800-877-8339 for TTY assistance. You may also view the information collection request (ICR) at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On January 4, 2021, we published in the Federal Register (86 FR 116) a notice of our intent to request that OMB approve this information collection. In that notice, we solicited comments for 60 days, ending on March 5, 2021. We received one comment, which did not address the information collection requirements. Therefore, no response was required.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Migratory Bird Treaty Act (16 U.S.C. 703-712) designates the Department of the Interior as the primary agency responsible for managing migratory bird populations frequenting the United States and setting hunting regulations that allow for the well-being of migratory bird populations. These responsibilities dictate that we gather accurate data on various characteristics of migratory bird populations.

The Service's fall survey for eastern population sandhill crane was established in 1979. It is implemented by State and Federal agencies and public volunteers from eight States in the Atlantic and Mississippi Flyways, as well as Ontario, Canada. Sandhill cranes are widely dispersed during the breeding and wintering seasons and are difficult to count. The optimal time to survey cranes is during the last week of October, when the majority of eastern population cranes breeding in Canada migrate to traditional staging grounds in the Great Lake States (e.g., Jasper-Pulaski Fish and Wildlife Area, Medaryville, Indiana). Since the initial survey in 1979, crane numbers have increased to over 90,000 birds.

The information collected through this survey is vital in assessing the relative changes in the geographic distribution of the species. We use the information primarily to inform managers of changes in sandhill crane distribution and population trends. Without information on the population's status, we might promulgate hunting regulations that:

• Are not sufficiently restrictive, which could cause harm to the sandhill crane population, or

• Are too restrictive, which would unduly restrict recreational opportunities afforded by sandhill crane hunting.

Notifications for the survey are sent to volunteers, and data results are entered into the data portal in order to calculate numbers of sandhill cranes. This survey is conducted via an online survey platform to reduce cost, improve data quality, and decrease respondent burden. This survey has no statistical design. We collect the following information in conjunction with the account setup process and survey data submission:

• Account setup process:

○ Email address,

○ Username,

○ Photo (optional),

○ Option for other users to contact the registrant,

○ Time zone,

○ First and last name,

○ Phone number, and

○ Start date.

• Survey data submission:

○ Data submission location via online map,

○ Date and time of observation,

○ Number of cranes,

○ Method (ground count or point count),

○ Habitat (agricultural field, sandbar, wetland, or mixed-wetland agricultural field), and

○ Any additional notes the user would like to submit.

We received OMB approval to conduct usability testing of the data entry portal in 2019 under Interior's generic clearance process “DOI Generic `Fast Track' Clearance for the Collection of Qualitative Feedback on Agency Service Delivery” (OMB Control No. 1090-0011). After conducting the usability testing of the data entry portal for 1 year, we are now ready to seek OMB's full approval of this information collection under the PRA.

Title of Collection: Online Eastern Population Sandhill Crane Survey Data Entry Portal.

OMB Control Number: 1018-New.

Form Number: None.

Type of Review: New.

Respondents/Affected Public: Individuals and State agencies.

Total Estimated Number of Annual Respondents: 112.

Total Estimated Number of Annual Responses: 157.

Estimated Completion Time per Response: Varies from 3 minutes to 5 minutes, depending on activity.

Total Estimated Number of Annual Burden Hours: 11.

Respondent's Obligation: Voluntary.

Frequency of Collection: One time for the initial registration, and on occasion for survey submission.

Total Estimated Annual Nonhour Burden Cost: None.

An agency may not conduct or sponsor and a person is not required to respond to a collection of information unless it displays a currently valid OMB control number.

The authority for this action is the Paperwork Reduction Act of 1995 (44 U.S.C. 3501 et seq.).

Dated: June 8, 2021.
Madonna Baucum,
Information Collection Clearance Officer, U.S. Fish and Wildlife Service.

[FR Doc. 2021-12288 Filed 6-10-21; 8:45 am]

BILLING CODE 4333-15-P